ENVIRONMENTAL PROTECTION AGENCY

[EPA-HQ-OAR-2024-0272; FRL-12654-01-OMS]

Agency Information Collection Activities; Submission to the Office of Management and Budget for Review and Approval; Comment Request; NESHAP for Electric Arc Furnace Steelmaking Facilities (Renewal)

AGENCY: Environmental Protection Agency (EPA).

ACTION: Notice.

SUMMARY: The Environmental Protection Agency (EPA) has submitted an information collection request (ICR), NESHAP for Electric Arc Furnace Steelmaking Facilities (EPA ICR Number 2277.07, OMB Control Number 2060-0608) to the Office of Management and Budget (OMB) for review and approval in accordance with the Paperwork Reduction Act. This is a proposed extension of the ICR, which is currently approved through February 28, 2025. Public comments were previously requested via the Federal Register on August 6, 2024 during a 60-day comment period. This notice allows for an additional 30 days for public comments.

DATES: Comments may be submitted on or before March 31, 2025.

ADDRESSES: Submit your comments, referencing Docket ID Number EPA-HQ-OAR-2024-0272, to EPA online using www.regulations.gov (our preferred method), by email to a-and-r-docket@epa.gov, or by mail to: EPA Docket Center, Environmental Protection Agency, Mail Code 28221T, 1200 Pennsylvania Ave. NW, Washington, DC 20460.

EPA's policy is that all comments received will be included in the public docket without change including any personal information provided, unless the comment includes profanity, threats, information claimed to be Confidential Business Information (CBI) or other information whose disclosure is restricted by statute.

Submit written comments and recommendations to OMB for the proposed information collection within 30 days of publication of this notice to www.reginfo.gov/public/do/PRAMain. Find this particular information collection by selecting “Currently under 30-day Review—Open for Public Comments” or by using the search function.

FOR FURTHER INFORMATION CONTACT: Muntasir Ali, Sector Policies and Program Division, Office of Air Quality Planning and Standard, D243-05, Environmental Protection Agency, 1200 Pennsylvania Ave. NW, Washington, DC 20460; telephone number: (919) 541-0833; email address: ali.muntasir@epa.gov.

SUPPLEMENTARY INFORMATION: This is a proposed extension of the ICR, which is currently approved through February 28, 2025. An agency may not conduct or sponsor and a person is not required to respond to a collection of information unless it displays a currently valid OMB control number.

Public comments were previously requested via the Federal Register on August 6, 2024 during a 60-day comment period (89 FR 63933). This notice allows for an additional 30 days for public comments. Supporting documents, which explain in detail the information that the EPA will be collecting, are available in the public docket for this ICR. The docket can be viewed online at www.regulations.gov or in person at the EPA Docket Center, WJC West, Room 3334, 1301 Constitution Ave. NW, Washington, DC. The telephone number for the Docket Center is 202-566-1744. For additional information about EPA's public docket, visit http://www.epa.gov/dockets.

Abstract: The National Emission Standards for Hazardous Air Pollutants (NESHAP) for Electric Arc Furnace Steelmaking Facilities (40 CFR part 63, subpart YYYYY) were proposed on September 20, 2007, and promulgated on December 28, 2007. These regulations apply to existing facilities and new Electric Arc Furnace (EAF) steelmaking facilities that are area sources of hazardous air pollutants (HAP) emissions. These standards establish particulate matter (PM) emission limits for control devices and opacity limits for melt shops, pollution prevention requirements for ferrous scrap that is melted in EAFs, and monitoring, reporting, and recordkeeping requirements. New facilities include those that commenced construction or reconstruction after the date of proposal. This information is being collected to assure compliance with 40 CFR part 63, subpart YYYYY.

In general, all NESHAP standards require initial notifications, performance tests, and periodic reports by the owners/operators of the affected facilities. They are also required to maintain records of the occurrence and duration of any startup, shutdown, or malfunction in the operation of an affected facility, or any period during which the monitoring system is inoperative. These notifications, reports, and records are essential in determining compliance, and are required of all affected facilities subject to NESHAP.

Form Numbers: None.

Respondents/affected entities: Electric Arc Furnace (EAF) steelmaking facilities.

Respondent's obligation to respond: Mandatory (40 CFR part 63, subpart YYYYY).

Estimated number of respondents: 80 (total).

Frequency of response: Initially, semiannually.

Total estimated burden: 3,920 hours (per year). Burden is defined at 5 CFR 1320.03(b).

Total estimated cost: $548,000 (per year), which includes $10,700 annualized capital or operation & maintenance costs.

Changes in the estimates: There is a decrease of 80 hours in the total estimated respondent burden compared with the ICR currently approved by OMB. This decrease is due to an adjustment to the number of respondents expected per year based on the feedback received during consultations with stakeholders. Despite a decrease in burden there is an increase in costs due to the use of updated labor rates. This ICR uses labor rates from the most recent Bureau of Labor Statistics report to calculate respondent burden costs. Although we applied an adjustment increase to the capital costs to adjust 2021 $ to 2023 $, there is an overall decrease in Capital/O&M costs due to the decrease in the number of new respondents per year as confirmed by consultations with stakeholders and the EPA's internal industry experts.

Courtney Kerwin,
Director, Information Engagement Division.

[FR Doc. 2025-03341 Filed 2-27-25; 8:45 am]

BILLING CODE 6560-50-P